FEDERAL MARITIME COMMISSION

Ocean Transportation Intermediary License

Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/address | Date Reissued
018694F | Global Parcel System LLC, 8304 Northwest 30th Terrace, Miami, FL 33122 | June 9, 2006.
013214N | Great Way Trading & Transportation, Inc. dba G.W. Trans-World Co., 501 S. Airport Blvd. 2nd Floor, South, San Francisco, CA 94080 | May 8, 2006.
019250N | MLR Export Inc. dba MLR Export Consolidations, 8090 NW. 71 Street, Miami, FL 33166 | May 1, 2006.
001763NF | Vertex Freight Systems, Inc., 8150 NW. 21st Street, Doral, FL 33122 | April 30, 2006.

Sandra L. Kusumoto,
Director, Bureau of Certification and Licensing.

[FR Doc. 06-5847 Filed 6-27-06; 8:45 am]

BILLING CODE 6730-01-P